NATIONAL SCIENCE FOUNDATION

Advisory Committee for Mathematical and Physical Sciences; Notice of Meeting

In accordance with Federal Advisory Committee Act (Pub. L. 92-463, as amended), the National Science Foundation announces the following meeting:

Name: Mathematical and Physical Sciences Advisory Committee (66).

Date/Time: November 8, 2012 1:00 p.m.-5:00 p.m.; November 9, 2012 10:30 a.m.-2:30 p.m.

Place: National Science Foundation, 4201 Wilson Boulevard, Arlington, VA 22230 Room 1235

Type of Meeting: Open.

Contact Person: Dr. Mark A. Suskin, Acting Deputy Assistant Director, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: Update on current status of Directorate Report of MPS Advisory Working Group on Expeditions in Education Meeting of MPSAC with Divisions within MPS Directorate Discussion of MPS Long-term Planning Activities.

Summary Minutes: May be obtained from the contact person listed above.

Dated: October 18, 2012.
Susanne E. Bolton,
Committee Management Officer.

[FR Doc. 2012-26059 Filed 10-22-12; 8:45 am]

BILLING CODE 7555-01-P